DEPARTMENT OF LABOR

Occupational Safety and Health Administration

[Docket No. OSHA-2020-0003]

Advisory Committee on Construction Safety and Health (ACCSH): Notice of Meetings

AGENCY: Occupational Safety and Health Administration (OSHA), Labor.

ACTION: Notice of ACCSH and ACCSH Workgroup meetings.

SUMMARY: The Advisory Committee on Construction Safety and Health (ACCSH) will meet April 29, 2020, in Washington, DC. In conjunction with the ACCSH meeting, ACCSH Workgroups will meet April 28, 2020.

DATES: ACCSH meeting: ACCSH will meet from 9 a.m. to 4 p.m., ET, Wednesday, April 29, 2020.

ACCSH Workgroup meetings: Prior to the full Committee meeting, ACCSH Workgroups will meet Tuesday, April 28, 2020. (For Workgroup meeting times, see the schedule under “Workgroup Meetings” in the SUPPLEMENTARY INFORMATION section of this notice.)

ADDRESSES:

Submission of comments and requests to speak: Submit comments and requests to speak at the ACCSH and ACCSH Workgroup meetings by Friday, April 17, 2020, identified by the docket number for this Federal Register notice (Docket No. OSHA-2020-0003), using one of the following methods:

Electronically: You may submit comments, including attachments, electronically at: http://www.regulations.gov, the Federal eRulemaking Portal. Follow the online instructions for submitting comments.

Facsimile: If your comments, including attachments, do not exceed 10 pages, you may fax them to the OSHA Docket Office at (202) 693-1648.

Regular mail, express mail, hand delivery, and messenger or courier service: You may submit comments and attachments to the OSHA Docket Office, Docket No. OSHA-2020-0003, Occupational Safety and Health Administration, U.S. Department of Labor, Room N-3653, 200 Constitution Avenue NW, Washington, DC 20210. Deliveries (express mail, hand (courier) delivery, and messenger service) are accepted during the OSHA Docket Office's normal business hours, Monday-Friday, 10:00 a.m. to 3:00 p.m., ET.

Instructions: All submissions must include the agency name and the OSHA docket number for this Federal Register notice (Docket No. OSHA-2020-0003). Because of security-related procedures, submissions by regular mail may result in a significant delay in receipt. Please contact the OSHA Docket Office for information about security procedures for making submissions by express mail, hand (courier) delivery, and messenger service.

Requests for special accommodations: Please submit requests for special accommodations for this ACCSH meeting by Friday, April 17, 2020, to Ms. Gretta Jameson, OSHA, Office of Communications, Room N-3647, U.S. Department of Labor, 200 Constitution Avenue NW, Washington, DC 20210; telephone: (202) 693-1999; email: jameson.grettah@dol.gov.

FOR FURTHER INFORMATION CONTACT:

For press inquiries: Mr. Frank Meilinger, Director, OSHA Office of Communications, U.S. Department of Labor; telephone (202) 693-1999; email: meilinger.francis2@dol.gov.

For general information about ACCSH: Mr. Damon Bonneau, OSHA, Directorate of Construction, U.S. Department of Labor; telephone (202) 693-2183; email: bonneau.damon@dol.gov.

For copies of this Federal Register * * * Electronic copies of this Federal Register Notice are available at: http://www.regulations.gov. This notice, as well as news releases and other relevant information, are also available at OSHA's web page at www.osha.gov.

SUPPLEMENTARY INFORMATION:

I. Background

ACCSH advises the Secretary of Labor and the Assistant Secretary of Labor for Occupational Safety and Health (Assistant Secretary) in the formulation of standards affecting the construction industry, and on policy matters arising in the administration of the safety and health provisions under the Contract Work Hours and Safety Standards Act (Construction Safety Act (CSA)) (40 U.S.C. 3701 et seq.) and the Occupational Safety and Health Act of 1970 (OSH Act) (29 U.S.C. 651 et seq.) (29 CFR 1911.10 and 1912.3). In addition, the OSH Act and CSA require the Assistant Secretary to consult with ACCSH before the agency proposes any occupational safety and health standard affecting construction activities (29 CFR 1911.10; 40 U.S.C. 3704).

ACCSH operates in accordance with the CSA, the OSH Act, the Federal Advisory Committee Act (FACA) (5 U.S.C. App. 2), and regulations issued pursuant to those statutes (29 CFR part 1912, 41 CFR part 102-3). ACCSH generally meets two times a year.

II. Meeting Information

Workgroup Meetings

Attending the meetings: The following ACCSH workgroups will meet Tuesday, April 28, 2020, at the U.S. Department of Labor, 200 Constitution Avenue NW, Washington, DC 20210. The workgroups will meet in Conference Rooms N-3437 A, B, C, and D. Due to heighten security measures, all potential attendees are asked to submit their name to Ms. Jameson (see “Requests for special accommodations” in the ADDRESSES section of this notice) by Friday, April 17, 2020. Meeting attendees must use the visitor's entrance located at 3rd & C Streets NW.

• Education, Training, and Outreach Workgroup: 9 a.m. to 12 p.m., ET

Meeting agenda:

1. Trench Safety.

2. Fall Prevention.

• Emerging and Current Issues Workgroup: 1 to 4 p.m., ET

Meeting agenda:

1. Opioids.

2. Suicides in construction.

ACCSH workgroup meetings are open to the public. For additional information on ACCSH workgroup meetings or participating in them, please contact Mr. Bonneau (see “For general information about ACCSH” in the FOR FURTHER INFORMATION CONTACT section of this notice).

ACCSH Full Committee Meeting

Attending the meeting: ACCSH will meet from 9 a.m. to 4 p.m., ET, Wednesday, April 29, 2020, at the U.S. Department of Labor, 200 Constitution Avenue NW, Washington, DC 20210. The Committee will meet in Conference Rooms N-3437 A, B, C and D. Due to heighten security measures, all potential attendees are asked to submit their name to Ms. Jameson (see “Requests for special accommodations” in the ADDRESSES section of this notice) by Friday, April 17, 2020. Meeting attendees must use the visitor's entrance located at 3rd & C Streets NW.

Meeting agenda: The tentative agenda for this meeting includes:

• Principal Deputy Assistant Secretary's agency update and remarks;

• Directorate of Construction update;

• Directorate of Standards and Guidance update;

• ACCSH's consideration of, and recommendation on, the following proposals:

—Updating the design and construction requirements of the powered industrial trucks standards by adding an incorporation by reference to the applicable provisions of the most recent ANSI/ITSDF consensus standards;

—Updating the Hazard Communication Standard to maintain alignment with the Globally Harmonized System of Classification and Labelling of Chemicals (GHS);

• Silica in Construction update;

• ACCSH workgroup reports; and,

• Public Comment Period.

Requests to speak and speaker presentations: Attendees who wish to address ACCSH at either the full committee meeting or the workgroup meetings must submit a request to speak, as well as any written or electronic presentation, by Friday, April 17, 2020, using one of the methods listed in the ADDRESSES section of this notice. The request must state:

• The amount of time requested to speak;

• The interest you represent (e.g., business, organization, affiliation), if any; and

• A brief outline of your presentation.

PowerPoint presentations and other electronic materials must be compatible with PowerPoint 2010 and other Microsoft Office 2010 formats.

Alternately, at the meetings, you may request to address ACCSH briefly by signing the public-comment request sheet and listing the topic(s) you will address. You also must provide 20 hard copies of any materials, written or electronic, you want to present to ACCSH.

At his discretion, the ACCSH Chair may grant requests to address ACCSH as time and circumstances permit.

Docket: OSHA will place comments, requests to speak, and speaker presentations, including any personal information you provide, in the public docket without change, and those documents may be available online at: http://www.regulations.gov. Therefore, OSHA cautions interested parties about submitting personal information such as Social Security Numbers and birthdates. OSHA also places in the public docket the meeting transcript, meeting minutes, documents presented at the meeting, and other documents pertaining to the ACCSH and ACCSH Workgroup meetings. These documents are available online at: http://www.regulations.gov. To read or download documents in the public docket for these ACCSH and ACCSH Workgroup meetings, go to Docket No. OSHA-2020-0003 at: http://www.regulations.gov. All documents in the public docket are listed in the index; however, some documents (e.g., copyrighted material) are not publicly available to read or download through http://www.regulations.gov. All submissions are available for inspection and, when permitted, copying at the OSHA Docket Office at the above address. For information on using http://www.regulations.gov to make submissions or to access the docket, click on the “Help” tab at the top of the homepage. Contact the OSHA Docket Office for information about materials not available through that website and for assistance in using the internet to locate submissions and other documents in the docket.

Authority and Signature

Loren Sweatt, Principal Deputy Assistant Secretary of Labor for Occupational Safety and Health, authorized the preparation of this notice under the authority granted by 29 U.S.C. 655(b)(1) and 656(b), 5 U.S.C. App. 2, Secretary of Labor's Order No. 1-2012 (77 FR 3912), and 29 CFR part 1912.

Signed at Washington, DC, on March 12, 2020.
Loren Sweatt,
Principal Deputy Assistant Secretary of Labor for Occupational Safety and Health.

[FR Doc. 2020-05615 Filed 3-17-20; 8:45 am]

BILLING CODE 4510-26-P